NATIONAL SCIENCE FOUNDATION

Advisory Committee for Geosciences; Notice of Meeting

In accordance with the Federal Advisory Committee Act (Pub. L. 92-463, as amended), the National Science Foundation announces the following meeting:

Name: Advisory Committee for Geosciences (1755).

DATES: October 29, 2014, 9:00 a.m.-5:00 p.m.

October 30, 2014, 8:30 a.m.-2:00 p.m.

Place: Stafford I, Room 375, National Science Foundation, 4201 Wilson Blvd., Arlington, Virginia 22230.

Type of Meeting: Open.

Contact Person: Melissa Lane, National Science Foundation, Suite 705, 4201 Wilson Blvd. Arlington, Virginia 22230. Phone 703-292-8500.

Minutes: May be obtained from the contact person listed above.

Purpose of Meeting: To provide advice, recommendations, and oversight on support for geoscience research and education including atmospheric, geo-space, earth, ocean and polar sciences.

Agenda:

Wednesday, October 29, 2014

• Meeting with the Acting Director

• Directorate and NSF activities and plans

• Division Subcommittee meetings

Thursday, October 30, 2014

• Division Subcommittee meetings

• Review of Committee of Visitors Reports

• Action Items/Planning for Spring Meeting

Dated: October 1, 2014.
Suzanne Plimpton,
Acting, Committee Management Officer.

[FR Doc. 2014-23936 Filed 10-7-14; 8:45 am]

BILLING CODE 7555-01-P